DEPARTMENT OF AGRICULTURE

Forest Service

Kootenai National Forest, Cabinet Ranger District, Montana Pilgrim Timber Sale Project

AGENCY: Forest Service, USDA.

ACTION: Notice of intent to prepare an environmental impact statement.

SUMMARY: This vegetation management project is designed to achieve goals of enhanced forest stand resilience and resistance to insect and disease agents by altering stand density, species composition, and age class structure, via use of timber harvesting and prescribed fire use. Big game forage would be enhanced through use of prescribed fire to rejuvenate and increase palatability of shrubs and grasses, including some sites within Inventoried Roadless Areas (IRA). No mechanical activities are proposed within IRA boundaries.

This Project was originally initiated in 2010 with scoping of the proposed action. In addition, in 2011 public scoping was again initiated in reference to openings sizes exceeding 40 acres and the requirement for a project-specific Forest Plan amendment related to open road density in areas managed for big game summer range. Subsequent analyses of potential environmental effects were documented in an Environmental Assessment (EA). Based on the level of interest, and recognizing the scope and potential issues associated with the project, as the Forest Supervisor for the Kootenai National Forest I have made the decision to halt the EA process and commence with the process to document findings in an Environmental Impact Statement. The comments received during the scoping process for the Environmental Assessment will be used in preparation of the EIS; therefore scoping will not be reinitiated.

DATES: Comments concerning the scope of the analysis must be received by April 23, 2012. The draft environmental impact statement is expected May 2012 and the final environmental impact statement is expected September 2012.

ADDRESSES: Send written comments to Kootenai National Forest, Pilgrim Timber Sale Project, Cabinet Ranger District, 2693 Highway 200, Trout Creek, MT 59874. Comments may also be sent via email to: comments-northern-kootenai-cabinet-fs.fed.us, or via facsimile to 406/827-0718. Electronic comments must be submitted in Microsoft Word format. It is important that reviewers provide their comments at such times and in such a way that they are useful to the Agency's preparation of the EIS. Therefore, comments should be provided prior to the close of the comment period and should clearly articulate the reviewer's concerns and contentions specific to the Proposal.

Comments received in response to this solicitation, including the names and addresses of those who comment, will be part of the public record for this proposed action. Comments submitted anonymously will be accepted and considered, however.

FOR FURTHER INFORMATION CONTACT: Doug Grupenhoff, Team Leader, (406) 827-3533 or to the Kootenai National Forest Web page: http://www.fs.fed.us/nepa/fs-usda-pop.php/?project=31645. Individuals who use telecommunication devices for the deaf (TDD) may call the Federal Information Relay Service (FIRS) at 1-800-877-8339 between 8 a.m. and 8 p.m., Eastern Time, Monday through Friday.

Individuals who use telecommunication devices for the deaf (TDD) may call the Federal Information Relay Service (FIRS) at 1-800-877-8339 between 8 a.m. and 8 p.m., Eastern Time, Monday through Friday.

Purpose and Need for Action

There is a need to reduce stand densities, improve growing conditions, and increase the proportion of root disease-resistant tree species in the area; there is a need to increase age class diversity in lodgepole pine-dominated forest communities in the project area; there is a need to provide local employment related to forest management and restoration activities and to supply forest products to contribute to the support of that segment of the local and regional economy dependent on timber products; and, there is a need to improve forage production and quality through the use of such treatments as commercial timber harvest, slashing, and prescribed fire.

Proposed Action

The proposed action includes timber harvest, prescribed burning, and road work necessary to provide safe access to the proposed treatment areas while minimizing resource impacts, as summarized below:

Approximately 500 acres of regeneration harvest are proposed, most of which would be removed with cable logging systems. Approximately 55-75 acres would be tractor yarded. These treatment areas are generally located where lodgepole pine is susceptible to mountain pine beetle attack or is currently infested, or in areas where Douglas-fir or true firs are infected with root disease at unacceptably high levels. In the latter case, we propose to increase the proportion of root disease resistant species (such as western larch, western white pine, or ponderosa pine) on the site to maintain viable forest communities over time. This can be done by favoring these species in the residual stand or by replanting these species after harvest if they are not well represented in the original stand. For most areas where regeneration harvest is proposed in lodgepole pine stands, we will generally propose to allow natural revegetation of the site back to lodgepole pine.

Approximately 900 acres of intermediate harvest is proposed; approximately one third will be tractor yarded and two thirds will require the use of a cable system. These commercial thinning treatments would leave a fully stocked stand after harvest with the objective of improving growing conditions for the residual trees.

To access proposed harvest areas, approximately 3.1 miles of new, permanent road would need to be constructed and approximately 1.8 miles of temporary road would be constructed and removed following completion of treatment activities. In addition, approximately 26 miles of road reconditioning to bring roads up to current standards of surface water management and provide for safe hauling. Approximately 6,950 acres have been identified as a perimeter for prescribed burning to enhance forage quality and quantity for big game species, notably elk, deer, and bears. Generally, these areas are on southerly aspects that have historically provided important forage which is declining due to conifer encroachment and forage senescence. Prescribed burns would occur during the cooler, moister spring period when the risk of large, high intensity fires is lower. On a yearly basis, depending on conditions, it is estimated that ignition would be unlikely to exceed 1,000 acres per year.

Portions of three Inventoried Roadless Areas (IRAs) are located within the Project Area and occupy a total of approximately 13,843 acres, or about 46% of the area. There are no harvest activities proposed within these roadless areas. Prescribed burning is being proposed within portions of these IRAs. Burning will be conducted in a manner so as to maintain their natural character and improve wildlife habitat.

Because of the extent of a current mountain pine beetle infestation, larger units are proposed to increase the amount of lodgepole treated and more closely approximate typical patch sizes of lodgepole pine in this area while still protecting important resources including stream integrity and fish habitat. Some of these units would create openings that would exceed 40 acres in size, for which approval by the Regional Forester is generally required.

All action alternatives propose treatment in MA-12 to meet the purpose and need for this project, and this activity requires the use of roads within MA-12 which are currently closed. Additionally, some alternatives propose new road construction within MA-12. This would result in exceeding the open road density standard during the life of the project and require a site-specific Forest Plan amendment. All roads opened for project activities and all newly constructed roads would be effectively closed after completion of project activities, so there would be no long term increase in open road densities.

Specifically, the proposed action (Alternative 2) would increase ORDs in MA-12 to 2.3 miles per square mile during harvest activities if all roads were open concurrently. Alternative 3 would result in an ORD of 2.6 miles per square mile during operations, and Alternative 4 would not change the existing condition. Following completion of project activities, open road densities would return to pre-project levels.

Possible Alternatives

Four alternatives have been identified; the No Action, the Proposed Action described in this Notice of Intent, an action alternative that more specifically addresses concerns and issues related to an on-going, aggressive expansion of mountain pine beetle activity into stands dominated by lodgepole pine, and an action alternative that would address concerns regarding new road construction which would accomplish stand treatments using the existing transportation system.

Responsible Official

As the Kootenai National Forest Supervisor, I am the responsible official for this decision.

Nature of Decision To Be Made

My decision will be whether or not to implement the proposed action as described, including timber harvest, road work, prescribed burning to enhance big game forage, approval of a project-specific amendment to the Forest Plan for open road density in MA-12, changes in some Management Area designation for difficult regeneration sites, and to exceed the 40 acre opening size limit under the National Forest Management Act (1976), or to implement an alternative course of action, as expressed in alternatives to the proposed action.

Scoping Process

It is important that reviewers provide their comments at such times and in such manner that they are useful to the agency's preparation of the environmental impact statement. Therefore, comments should be provided prior to the close of the comment period and should clearly articulate the reviewer's concerns and contentions.

Comments received in response to this solicitation, including names and addresses of those who comment, will be part of the public record for this proposed action. Comments submitted anonymously will be accepted and considered, however.

Dated: March 8, 2012.
Paul Stantus,
Acting Forest Supervisor.

[FR Doc. 2012-7052 Filed 3-22-12; 8:45 am]

BILLING CODE 3410-11-P